DEPARTMENT OF TRANSPORTATION

Federal Aviation Administration

14 CFR Part 39

[Docket No. FAA-2008-0121; Directorate Identifier 2007-NM-277-AD; Amendment 39-15363; AD 2008-03-13]

RIN 2120-AA64

Airworthiness Directives; ATR Model ATR42-500 Airplanes

AGENCY: Federal Aviation Administration (FAA), Department of Transportation (DOT).

ACTION: Final rule; request for comments.

SUMMARY: The FAA is adopting a new airworthiness directive (AD) for certain ATR Model ATR42-500 series airplanes. This AD requires removing metallized polyethylene terephtalate (MPET) insulation blankets installed on the left and the right sides of the airplane over frame 24 between stringers 5 and 14. This AD results from reports indicating that burnt spots were found on the MPET insulation blankets installed over frame 24. The actions specified by this AD are intended to ensure that MPET insulation blankets are removed over frame 24. Such MPET insulation blankets, if not removed, could propagate a small fire that is the result of an electrical arc and could lead to a much larger fire.

DATES: This AD becomes effective February 20, 2008.

The Director of the Federal Register approved the incorporation by reference of a certain publication listed in the AD as of February 20, 2008.

We must receive comments on this AD by March 6, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact ATR, 316 Route de Bayonne, 31060 Toulouse, Cedex 03, France.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue, SW., Renton, Washington 98057-3356; telephone (425) 227-1137; fax (425) 227-1149.

SUPPLEMENTARY INFORMATION:

Discussion

The European Aviation Safety Agency (EASA), which is the Technical Agent for the Member States of the European Community, notified us that an unsafe condition may exist on certain ATR Model ATR42-500 series airplanes. The EASA advises that there have been reports of two in-service aircraft where burnt spots were found on the insulation blankets installed over frame 24. Investigations concluded that due to the presence of the bleed air duct, installation of the thermal-acoustical insulation blankets having a metallized polyethylene terephtalate (MPET) made the covering (also known as Mylar ™) at this location unsafe. Such MPET insulation blankets, if not removed, could propagate a small fire that is the result of an electrical arc and could lead to a much larger fire. This action is intended to address the identified unsafe condition.

Relevant Service Information

ATR has issued Service Bulletin ATR42-25-0155, dated April 10, 2007. The service bulletin describes procedures for removing the MPET insulation blankets installed on the left and the right sides of the airplane over frame 24 between stringers 5 and 14. Accomplishing the actions specified in the service information is intended to adequately address the unsafe condition. The EASA mandated the service information and issued emergency airworthiness directive 2007-0106-E, dated April 18, 2007, to ensure the continued airworthiness of these airplanes in the European Union.

FAA's Determination and Requirements of This AD

These airplanes are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to ensure that MPET insulation blankets are removed over frame 24. Such MPET insulation blankets, if not removed, could propagate a small fire that is the result of an electrical arc and could lead to a much larger fire. This AD requires accomplishing the actions specified in the service information described previously.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required action would take about 6 work hours per airplane, at an average labor rate of $80 per work hour. Based on these figures, the estimated cost of the AD would be $480 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0121; Directorate Identifier 2007-NM-277-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2008-03-13 ATR—GIE Avions de Transport Régional (Formerly Aerospatiale): Amendment 39-15363. Docket No. FAA-2008-0121; Directorate Identifier 2007-NM-277-AD.

Effective Date

(a) This AD becomes effective February 20, 2008.

Affected ADs

(b) None.

Applicability

(c) This AD applies to ATR Model ATR42-500 series airplanes, certificated in any category; except for airplanes modified in accordance with ATR modification numbers 05117, 05322, and 05791, or ATR Service Bulletin ATR42-25-1034, dated January 24, 2002.

Unsafe Condition

(d) This AD results from reports indicating that burnt spots were found on the metallized polyethylene terephtalate (MPET) insulation blankets installed over frame 24. We are issuing this AD to ensure that MPET insulation blankets are removed over frame 24. Such MPET insulation blankets, if not removed, could propagate a small fire that is the result of an electrical arc and could lead to a much larger fire.

Compliance

(e) You are responsible for having the actions required by this AD performed within the compliance times specified, unless the actions have already been done.

Removal of Installation Blankets

(f) Within 15 days after the effective date of this AD, remove the MPET insulation blankets installed on the left and the right sides of the airplane over frame 24 between stringers 5 and 14, in accordance with the Accomplishment Instructions of ATR Service Bulletin ATR42-25-0155, dated April 10, 2007.

Alternative Methods of Compliance (AMOCs)

(g)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(h) EASA emergency airworthiness directive 2007-0106-E, dated April 18, 2007, also addresses the subject of this AD.

Material Incorporated by Reference

(i) You must use ATR Service Bulletin ATR42-25-0155, dated April 10, 2007, to perform the actions that are required by this AD, unless the AD specifies otherwise. The Director of the Federal Register approved the incorporation by reference of this document in accordance with 5 U.S.C. 552(a) and 1 CFR part 51. Contact ATR, 316 Route de Bayonne, 31060 Toulouse, Cedex 03, France, for a copy of this service information. You may review copies at the FAA, Transport Airplane Directorate, 1601 Lind Avenue SW., Renton, Washington; or at the National Archives and Records Administration (NARA).

For information on the availability of this material at NARA, call 202-741-6030, or go to: http://www.archives.gov/federal-register/cfr/ibr-locations.html.

Issued in Renton, Washington, on January 24, 2008.
Ali Bahrami,
Manager, Transport Airplane Directorate, Aircraft Certification Service.

[FR Doc. E8-2004 Filed 2-4-08; 8:45 am]

BILLING CODE 4910-13-P